MEDICARE PAYMENT ADVISORY COMMISSION

Notice of Meeting

AGENCY: Medicare Payment Advisory Commission.

ACTION: Notice of meeting.

SUMMARY: The Commission will hold its next public meeting on Thursday, April 13, 2000 and Friday, April 14, 2000 at the Ronald Reagan Building, International Trade Center, 1300 Pennsylvania Avenue, NW, Washington, DC. The meeting is tentatively scheduled to begin at 10 a.m. on April 13, and 9 a.m. on April 14.

Topics for discussion include: payments to teaching hospitals and DRG refinement, improving quality assurance for institutional providers, financial performance and payment update for hospitals covered by PPS, hospital financial performance and payment update for facilities exempt from PPS, work plan on mandated study on medical savings accounts, improving payment policy for hospital outpatient departments and physicians' services, criteria for evaluating proposals to reform Medicare, prescription drug coverage issues, and an update on proposed refinements to the SNF PPS.

Agenda will be mailed on April 4, 2000. The final agenda will be available on the Commission's website (www.MedPAC.gov).

ADDRESSES: MedPAC's address is: 1730 K Street, NW, Suite 800, Washington, DC 20006. The telephone number is (202) 653-7220.

FOR FURTHER INFORMATION CONTACT: Diane Ellison, Office Manager, (202) 653-7220.

SUPPLEMENTARY INFORMATION: If you are not on the Commission mailing list and wish to receive an agenda, please call (202) 653-7220.

Murray N. Ross,
Executive Director.

[FR Doc. 00-8068 Filed 3-31-00; 8:45 am]

BILLING CODE 6820-BW-M